DEPARTMENT OF HEALTH AND HUMAN SERVICES

Administration for Community Living

Announcing the Intent To Award a Single-Source Supplement for the National Center for Benefits Outreach and Enrollment (NCBOE)

AGENCY: Administration for Community Living, HHS.

ACTION: Notice.

SUMMARY: The Administration for Community Living (ACL) announces the intent to award a single-source supplemental to the current cooperative agreement held by the National Council on Aging (NCOA) for the National Center for Benefits Outreach and Enrollment (NCBOE). The purpose of the NCBOE is to provide technical assistance to states, area agencies on aging, and service providers to provide outreach and low-income benefits enrollment assistance, particularly to older individuals with greatest economic need for federal and state programs. The administrative supplement for FY 2016 will be for $6,657,383, bringing the total award for FY 2016 to $11,657,383. This supplement will fully fund the NCOBE project as stated in the reauthorization of NCBOE activities in section 110 of the Protecting Access to Medicare Act of 2014. With this funding NCOA will be expected to continue, expand, and complete the work they are currently undertaking with the NCBOE award without disrupting services. The additional funding will not be used to begin new projects but to expand the capacity of current activities to increase the number of beneficiaries and seniors reach by the NCBOE.

Program Name: The National Center for Benefits Outreach and Enrollment (NCBOE).

Recipient: National Council on Aging (NCOA).

Period of Performance: The award will be issued for the final year of the current project period of September 30, 2014 through September 29, 2017.

Total Award Amount: $11,657,383 in FY 2016.

Award Type: Cooperative Agreement Supplement.

Statutory Authority: The Medicare Improvements for Patients and Providers Act of 2008—Section 119, Public Law (Pub. L.) 110-275 as amended by the Patient Protection and Affordable Care Act of 2010 (Affordable Care Act), reauthorized by the American Taxpayer Relief Act of 2012 (ATRA) and reauthorized by section 110 of the Protecting Access to Medicare Act of 2014.

Basis for Award: The National Council on Aging (NCOA) is currently funded to carry out the NCBOE Project for the period of September 30, 2014 through September 29, 2017. Much work has already been completed and further tasks are currently being accomplished. This supplement will fully fund the NCOBE project as stated in the reauthorization of NCBOE activities in section 110 of the Protecting Access to Medicare Act of 2014.

Since 2001, the NCOA has been a national leader in improving benefits access to vulnerable older adults. They have a strong history of working with community based organizations to develop and replicate outreach and enrollment solutions, while maintaining and enhancing technology to make it easier and more efficient to find benefits. The NCOA through NCBOE accomplishes its mission by developing and sharing tools, resources, best practices, and strategies for benefits outreach and enrollment via its online clearinghouse, electronic and print publications, webinars, and training and technical assistance.

In addition, the NCOA has the BenefitsCheckUp which is, by far, the nation's most comprehensive and widely-used web-based service that screens older and disabled adults with limited incomes and resources and informs them about public and private benefits for which they are very likely to be eligible. Since the BenefitsCheckUp was launched in 2001, nearly 4 million individuals have been assisted to identify over $14.3 billion in potential annual benefits. In addition to a focus on Low-Income Subsidy and Medicare Savings Programs, the BenefitsCheckUp also includes more than 2,300 benefits programs from all 50 states and DC, including the recent addition of Medicaid expansion programs as part of the Affordable Care Act; over 50,000 local offices for people to apply for benefits; more than 1,500 application forms in every language in which they are available; and user-friendly mapping tools that allow streamlined access to program fact sheets and application forms based upon a person's locality.

FOR FURTHER INFORMATION CONTACT: For further information or comments regarding this program supplement, contact Rebecca Kinney, U.S. Department of Health and Human Services, Administration for Community Living, Center for Integrated Programs, Office of Healthcare Information and Counseling; telephone (202) 795-7375; email Rebecca.Kinney@acl.hhs.gov.

Dated: June 14, 2016.
Kathy Greenlee,
Administrator and Assistant Secretary for Aging.

[FR Doc. 2016-14611 Filed 6-20-16; 8:45 am]

BILLING CODE 4154-01-P